SECURITIES AND EXCHANGE COMMISSION

Sunshine Act Meeting

Federal Register Citation of Previous Announcement: [to be published]

Status: Closed Meeting.

Place: 100 F Street, NW., Washington, DC.

Date and Time of Previously Announced Meeting: June 19, 2009 at 11 a.m.

Change In the Meeting: Deletion of an Item.

The following item will not be considered during the Closed Meeting on Friday, June 19, 2009: Formal order of investigation.

At times, changes in Commission priorities require alterations in the scheduling of meeting items. For further information and to ascertain what, if any, matters have been added, deleted or postponed, please contact the Office of the Secretary at (202) 551-5400.

Dated: June 17, 2009.
Elizabeth M. Murphy,
Secretary.

[FR Doc. E9-14656 Filed 6-22-09; 8:45 am]

BILLING CODE 8010-01-P